DEPARTMENT OF HEALTH AND HUMAN SERVICES

Administration for Community Living

Agency Information Collection Activities; Proposed Collection; Public Comment Request; Revised Annual and Final Reports for Performance Reporting Data From NIDILRR Grantees

AGENCY: National Institute on Disability, Independent Living and Rehabilitation Research NIDILRR, Administration for Community Living, HHS.

ACTION: Notice.

SUMMARY: The Administration for Community Living (ACL/NIDILRR) is announcing an opportunity for the public to comment on ACL's intention to obtain annual and final performance data from NIDILRR grantees. Under the Paperwork Reduction Act of 1995 (the PRA), federal agencies are required to publish a notice in the Federal Register concerning each proposed collection of information (including each proposed extension or reinstatement of an existing collection of information) and to allow 60 days for public comment on the proposed action. This notice collects comments on the information collection requirements relating to the reinstatement with change of a previously approved data collection covering ten NIDILRR programs.

DATES: Submit written comments on the collection of information by March 27, 2017.

ADDRESSES: Submit electronic comments on the collection of information to: Mary.Darnell@acl.hhs.gov. Submit written comments on the collection of information to Mary Darnell, U.S. Administration for Community Living, 330 C Street SW., Room 2510-D Washington, DC 20416.

FOR FURTHER INFORMATION CONTACT: Mary Darnell, 202-795-7337.

SUPPLEMENTARY INFORMATION: Under the PRA (44 U.S.C. 3501-3520), Federal agencies must obtain approval from the Office of Management and Budget (OMB) for each collection of information they conduct or sponsor. “Collection of information” is defined in 44 U.S.C. 3502(3) and 5 CFR 1320.3(c) and includes agency requests or requirements that members of the public submit reports, keep records, or provide information to a third party. Section 3506(c)(2)(A) of the PRA (44 U.S.C. 3506(c)(2)(A)) requires Federal agencies to provide a 60-day notice in the Federal Register concerning each proposed collection of information, including each proposed extension of an existing collection of information, before submitting the collection to OMB for approval. To comply with this requirement, ACL is publishing a notice of the proposed collection of information set forth in this document.

Interested persons are invited to send comments regarding our burden estimates or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Proposed Collection: Annual and Final Performance Reporting (APR) Forms for NIDILRR Grantees.

The forms included in this package are revised versions of those used by grantees in the following 10 programs to submit their Annual and Final Performance Reports for Reporting Year 2016 under OMB collection number 1820-0675:

• Rehabilitation Research Training Centers (RRTCs)

• Rehabilitation Engineering Research Centers (RERCs)

• Field Initiated Research Projects (FIPs)

• Advanced Rehabilitation Research Training Projects (ARRTs)

• Model Systems (including spinal cord injury, traumatic brain injury, and burn centers)

• Disability and Rehabilitation Research Projects (DRRPs)

• Knowledge Translation (KT) Projects

• ADA National Network Centers (ADAs)

• Small Business Innovation Research Projects (SBIR) grantees (Phase 2 only)

• Research Fellowships Program (RFP)

The APR includes common information and information specific to individual programs. The final report is a subset of items from the annual report and provides a summary of progress and outcomes for the full project period. OMB's approval of the forms used in Reporting Year 2016 expired December 31, 2016.

Need and Use of Information Collection: The National Institute on Disability, Independent Living, and Rehabilitation Research (NIDILRR) Administration for Community Living (ACL) of the Department of Health and Human Services (HHS) requests clearance of revised Annual Performance Reporting (APR) and Final Report forms to be completed by all NIDILRR grantees. (Previously housed in the Department of Education and known as the National Institute on Disability and Rehabilitation Research [NIDRR], NIDILRR was renamed and relocated to HHS by the Workforce Innovation and Opportunity Act of 2014.)

Changes in the Reporting Forms: The Web-based system used for Reporting Year 2016 reporting incorporate a number of features to meet NIDILRR's information needs while minimizing burden. The reporting form and system currently in use were designed so that information provided by grantees each year is automatically carried forward to the next. Under this design, grantees need only review and, if necessary, edit their previous year's entries in order to complete subsequent annual reports. To further reduce burden, the proposed form is designed so that, instead of describing their accomplishments, grantees simply select their most important accomplishments from among the outputs they report. Data from grant applications, such as contact and budget information, are preloaded for efficiency. To facilitate grantee and NIDILRR staff review of information submitted, the system includes system-generated tables that summarize information entered in specific sections. The Web-based system also carries forward information from one section of the form to the next; for example, information on outcome-oriented goals is carried forward for convenient linkage with projects/activities and publications. New mandates promoting public-access to government-sponsored information and products have led to new requirements for NIDILRR's grantees. NIDILRR and the Administration for Community Living have recently published our public access plan to operationalize these requirements related to public access to publications that result from work we sponsor. Specifically the Type 1 Outputs: Publications section has been modified to meet these requirements. NIDILRR took time to build these requirements into its annual performance report (APR) so that we can systematically monitor grantee compliance with the public access plan. The current reporting section will remain for all grants funded prior to 10/1/16 and continue to be used until such grants have ended. Grants funded after this date will see the section meeting the new reporting requirements. Minor changes to the currently approved reporting form were necessary to reflect NIDILRR's new name and its move from ED to HHS. These include:

• Replacing references to ED's statutory requirements, forms, systems, and CFDA numbers with appropriate HHS references.

• Changes necessary to accommodate the assignment of new HHS grant numbers (in a different format) to existing and new grants. The addition of one response option in the Indirect Costs section of the reporting form.

Changes in the Burden Statement, reflecting the agency's move from ED to HHS, have been previously approved by OMB.

Other changes include:

Changes were made in the instructions for grantees' reporting on technology transfer plans (RERC grantees only).

Insertion of one item about the stages of research in the Research Projects section and one item about the stages of development in the Development Projects section.

Regulatory changes required minor changes to the response section for development projects and the addition of a question regarding commercialization.

Reporting forms for all 10 programs are Web-based; that is, all grantees will complete their annual reports via the Internet. Data collected through these forms will be used to:

(a) Facilitate program planning and management;

(b) respond to Department of Health and Human Services (DHHS) Grants Policy Administration Manual (GPAM) requirements; and

(c) respond to the reporting requirements of the Government Performance and Results Act (GPRA) of 1993 (Pub. L. 103-62).¹

¹ The Government Performance and Results Act of 1993 and the Government Performance and Results Modernization Act of 2010 are available at http://www.whitehouse.gov/omb/mgmt-gpra/index-gpra.

OMB approval is requested for 3 years. There are no costs to respondents other than their time. The average annual burden associated with these activities over a three-year period is summarized below.

NIDILRR and HHS will use the information gathered annually from these data collection efforts to provide Congress with the information mandated in GPRA, provide OMB information required for assessment of performance on GPRA indicators, and support its evaluation activities. Data collected from the 10 grant programs will provide a national description of the research activities of approximately 275 NIDILRR grantees per year in fiscal years 2017-2019.

While the number of grantees will vary from year to year, all grantees will be required to submit an annual performance report and a final report at the completion of the project. Based on our experience with reporting burden, we estimate that it will take an average of 52 hours to complete the reporting form in a grantee's first year of award. In subsequent years, the estimated response burden is approximately 22 hours. The estimated response burden includes time to review the instructions, gather existing data, and complete and review the form. The number of respondents is based on the average number of grants administered by NIDILRR over time. The proposed NIDILRR Annual Performance Report (APR) and final report forms can be found on the ACL Web site at:

https://acl.gov/Programs/NIDILRR/docs/NIDILRR-AnnualPerfReport-2016.pdf.

https://acl.gov/Programs/NIDILRR/docs/NIDILRR-APR-FinalForm-2016.pdf.

ACL estimates the burden hours for this collection of information as follows:

| Number of respondents | Number of responses per respondent | Average burden hours per response | Total burden hours
New Grantees | 75 | 1 | 52 | 3,900
Continuations and Final Reports | 200 | 1 | 22 | 4.400
Total |  |  |  | 8,300

Date: January 17, 2017.
Edwin Walker,
Acting Administrator and Assistant Secretary for Aging.

[FR Doc. 2017-01537 Filed 1-23-17; 8:45 am]

BILLING CODE 4154-01-P